DEPARTMENT OF ENERGY

Federal Energy Regulatory Commission

[Projects Nos. 13103-000 and 13104-000]

Birch Power Company; BPUS Generation Development LLC; Notice of Competing Preliminary Permit Applications Accepted for Filing and Soliciting Comment, Motions To Intervene, and Competing Applications

July 9, 2008.

On February 1, 2008, at 8:32 a.m. and 8:39 a.m. respectively, Birch Power Company (Birch Power) and BPUS Generation Development LLC (BPUS Generation) filed applications, pursuant to section 4(f) of the Federal Power Act, proposing to study the feasibility of the Coffeeville Lock and Dam Hydroelectric Project, to be located at the existing U.S. Army Corp of Engineers (Corps) Coffeeville Lock and Dam on the Tombigbee River in Choctaw and Clarke Counties, Alabama.

The proposed projects would use the existing Corps Coffeeville Lock and Dam and would respectively consist of, for Birch Power and BPUS Generation: (1) A proposed powerhouse containing several generating units having total installed capacities of 9.55 and 24 megawatts, (2) a proposed intake and tailrace, (3) a proposed transmission line, and (4) appurtenant facilities. The projects would, respectively, have an annual generation of 62 and 48 gigawatt-hours that would be sold to a local utility.

Applicant Contact: for Birch Power—Mr. Ted Sorenson, Sorenson Engineering, 5203 South 11th East, Idaho Falls, ID 83404; phone: 208-522-8069; for BPUS Generation—Mr. Jeffrey M. Auser, BPUS Generation Development LLC, 225 Greenfield Parkway, Suite 201, Liverpool, NY 13088; phone: 315-413-2700. FERC Contact: Tom Papsidero, 202-502-6002.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13103-000 or P-13104-000) in the docket number field to access the document. For assistance, call toll-free 1-866-208-3372.

Kimberly D. Bose,
Secretary.

[FR Doc. E8-16203 Filed 7-15-08; 8:45 am]

BILLING CODE 6717-01-P